SECURITIES AND EXCHANGE COMMISSION

[File No. 500-1]

Star Entertainment Group, Inc., Order of Suspension of Trading

August 16, 2012.

It appears to the Securities and Exchange Commission that there is a lack of current and accurate information concerning the securities of Star Entertainment Group, Inc. (“Star Entertainment”) because of questions regarding the accuracy of the company's financial statements published with OTC Markets Group Inc. Star Entertainment's securities are quoted on OTC Link operated by OTC Markets Group Inc. under the ticker symbol “SETY.”

The Commission is of the opinion that the public interest and the protection of investors require a suspension of trading in the securities of the above-quoted company.

Therefore, it is ordered, pursuant to Section 12(k) of the Securities Exchange Act of 1934, that trading in the above-quoted company is suspended for the period from August 16, 2012, 9:30 a.m. EDT, on August 16, 2012 through 11:59 p.m. EDT, on August 29, 2012.

By the Commission.
Elizabeth M. Murphy,
Secretary.

[FR Doc. 2012-20484 Filed 8-16-12; 4:15 pm]

BILLING CODE 8011-01-P